DEPARTMENT OF COMMERCE

Census Bureau

Proposed Information Collection; Comment Request; 2017 Economic Census

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 6, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Kevin Deardorff, U.S. Census Bureau, Economy Wide Statistics Division, Room 8K154, 4600 Silver Hill Road, Washington, DC 20233, telephone (301) 763-6033, or via the Internet at Kevin.E.Deardorff@census.gov.

SUPPLEMENTARY INFORMATION:

I. Abstract

The Census Bureau is the preeminent collector and provider of timely, relevant, and quality data about the people and economy of the United States. Economic data are the Census Bureau's primary program commitment during nondecennial census years. The Economic Census, conducted under authority of Title 13 United States Code, is the U.S. Government's official five-year measure of American business and the economy. It features the primary source of facts about the structure and functioning of the Nation's economy and features unique industry and geographic detail. Economic census statistics serve as part of the framework for the national accounts and provide essential information for government, business, and the public.

The 2017 Economic Census covering the Mining; Utilities; Construction; Manufacturing; Wholesale Trade; Retail Trade; Transportation and Warehousing; Information; Finance and Insurance; Real Estate and Rental and Leasing; Professional, Scientific and Technical Services; Management of Companies and Enterprises; Administrative and Support and Waste Management and Remediation; Educational Services; Health Care and Social Assistance; Arts, Entertainment, and Recreation; Accommodation and Food Services; Other Services (except Public Administration) Sectors (as defined by the North American Industry Classification System (NAICS)) will measure the economic activity of more than 7 million employer establishments. The information collected from establishments in these sectors of the economic census will produce basic statistics by industry for number of establishments, value of shipments/receipts/revenue/sales, payroll, and employment. It also will yield a variety of industry-specific statistics, including materials consumed, detailed supplies and fuels consumed, electric energy consumed, depreciable assets, selected purchased services, inventories, and capital expenditures, value of shipments/receipts/revenue/sales by product line as defined by the North American Product Classification System (NAPCS), type of operation, size of establishments, and other industry-specific measures.

Respondent burden will be reduced by using a response driven electronic reporting instrument that includes skip patterns and will display survey paths specific to the establishment's kind of business.

II. Method of Collection

Establishments in the Economic Census will be selected from the Census Bureau's Business Register. The Census Bureau's Business Register provides a current and comprehensive database of U.S. business establishments and companies for statistical program use. To be eligible for selection, an establishment will be required to satisfy the following conditions: (i) It must be classified in one of the sectors listed above; (ii) it must be an active operating establishment of a multi-establishment firm (i.e., a firm that operates at more than one physical location), or it must be a single-establishment firm with payroll (i.e., a firm operating at only one physical location); and (iii) it must be located in one of the 50 states, offshore areas, or the District of Columbia. Initial contact with respondents will be a mailed letter directing them to report online. No form will be mailed. The sampling procedure will distinguish the following groups of establishments for collection:

1. Establishments of Multi-Establishment Firms

Selection procedures will assign all active establishments of multi-establishment firms to the mail component of the universe, except for those in industries classified as consolidated reporters. In these selected industries, where activities are not easily attributable to individual locations or establishments, firms will be asked to report their basic data for several establishments at a nation-wide level on an electronic consolidated report path(s).

2. Single-Establishment Firms With Payroll

All single-establishment firms having 2017 payroll (from Federal administrative records) will be included in the sampling frame. We will use a NAICS-by-state stratified sample design for selecting a sample of single-establishment firms. The largest single-establishment firms (based on 2017 payroll) will be selected with certainty. Using a NAICS-by-state stratified sample should produce reliable estimates for various characteristics at detailed NAICS-by-state levels.

The remaining single-establishment firms with payroll that are not selected into the sample will be represented in the Economic Census by data from Federal administrative records, or by weighting the responses of the sampled establishments. Additionally, some of these single-establishment firms not selected into the sample may be requested to respond to a short questionnaire to verify or confirm that the establishments are classified in the correct NAICS industry.

III. Data

OMB Control Number: 0607-XXXX.

Electronic ID Path(s): The paths in the electronic instrument used to collect information are tailored to specific industries or groups of industries. The Electronic Path ID's are too numerous to list individually in this notice.

Type of Review: Regular submission.

Affected Public: State or local governments, businesses, or other for profit or non-profit institutions or organizations.

Estimated Number of Respondents: 4,423,783—see Table 1 for detail.

Estimated Time per Response: See Table 1 for detail.

Estimated Total Annual Burden Hours: 6,832,591—see Table 1 for detail.

Estimated Total Annual Cost: $0.

Respondent's Obligation: Mandatory.

Legal Authority: Title 13 U.S.C. Section 131.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2016.
Glenna Mickelson,
Management Analyst, Office of the Chief Information Officer.

[FR Doc. 2016-15787 Filed 7-1-16; 8:45 am]

BILLING CODE 3510-07-P